DEPARTMENT OF COMMERCE

International Trade Administration

[A-533-840, A-549-822]

Certain Frozen Warmwater Shrimp From India and Thailand: Notice of Extension of Time Limits for the Preliminary Results of the 2010-2011 Administrative Reviews

AGENCY: Import Administration, International Trade Administration, Department of Commerce.

FOR FURTHER INFORMATION CONTACT: Elizabeth Eastwood, AD/CVD Operations, Office 2, Import Administration, International Trade Administration, U.S. Department of Commerce, 14th Street and Constitution Avenue, NW., Washington, DC 20230; telephone (202) 482-3874.

Background

On April 1, 2011, the Department of Commerce (the Department) published a notice of initiation of the administrative reviews of the antidumping duty orders on certain frozen warmwater shrimp From India and Thailand covering the period February 1, 2010, through January 31, 2011. See Certain Frozen Warmwater Shrimp From Brazil, India, and Thailand: Notice of Initiation of Administrative Reviews, 76 FR 18157 (Apr. 1, 2011).

Extension of Time Limit of Preliminary Results

Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period. The deadline for the preliminary results of these administrative reviews is currently October 31, 2011. The Department determines that completion of the preliminary results of these reviews within the statutory time period is not practicable because it recently initiated a cost investigation for one respondent in each review and the data necessary to conduct these investigations will not be received until late September (for Thailand) and early October 2011 (for India). The Department thus requires additional time to conduct its cost analysis in each of these reviews. Therefore, in accordance with section 751(a)(3)(A) of the Act, we are extending the time period for issuing the preliminary results of these reviews until February 28, 2012. The final results continue to be due 120 days after the publication of the preliminary results.

This notice is published pursuant to section 751(a)(3)(A) of the Act and 19 CFR 351.213(h)(2).

Dated: September 30, 2011.
Gary Taverman,
Acting Deputy Assistant Secretary for Antidumping and Countervailing Duty Operations.

[FR Doc. 2011-25741 Filed 10-4-11; 8:45 am]

BILLING CODE 3510-DS-P